NUCLEAR WASTE TECHNICAL REVIEW BOARD

Guidelines for Ensuring and Maximizing the Quality, Objectives, Utility, and Integrity of Information Disseminated by the U.S. Nuclear Waste Technical Review Board

AGENCY: U.S. Nuclear Waste Technical Review Board.

ACTION: Draft notice for comment.

SUMMARY: The Office of Management and Budget (OMB) issued government wide guidelines (OMB Guidelines) as required by Section 515 of the Treasury and General Government Appropriations Act for Fiscal Year 2001 (Pub. L. 106-554; H.R. 5658) to ensure and maximize the quality of information disseminated by Federal agencies. The OMB Guidelines were published on September 28, 2001, (66 FR 49718) and on January 3, 2002, (67 FR 369) and reprinted in their entirety on February 22, 2002, (67 FR 8452): Guidelines for Ensuring and Maximizing the Quality, Objectively, Utility, and Integrity of Information Disseminated by Federal Agencies. Each Federal agency is required to issue its own set of guidelines to comply with Section 515 requirements.

The U.S. Nuclear Waste Technical Review Board (Board) is making its draft information guidelines available for public comment both in the Federal Register and on its Web site at www.nwtrb.gov. The Board welcomes public comment on the guidelines. Please send comments by e-mail to info@nwtrb.gov. or in writing to Joyce M. Dory, Director of Administration; U.S. Nuclear Waste Technical Review Board; 2300 Clarendon Blvd., Suite 1300; Arlington, VA 22201.

Comments may be submitted on the draft NWTRB guidelines or on the proposed complaint and review process for addressing public requests for correcting such information. When commenting, please bear in mind that the purpose of the complaint and review process is to deal with information quality, not to resolve underlying substantive policy or legal issues or factual disputes.

Comments received will be reviewed and may be included in the Board's request to OMB for approval of final NWTRB guidelines. To be considered for inclusion in the final guidelines, comments must be received by July 26, 2002.

Nothing in the guidelines set forth in this notice is intended to confer any legal right on any individual. The Board's predissemination review under these guidelines applies to information first disseminated by the Board on or after October 1, 2002.

Draft Guidelines for Disseminating Information

Board Mandate

The U.S. Nuclear Waste Technical Review Board was established by Public Law 100-203, Part E, to “evaluate the technical and scientific validity of activities undertaken by the Secretary [of Energy] after the date of the enactment of the Nuclear Waste Policy Amendments Act of 1987, including: (1) [Yucca Mountain] site characterization activities; and (2) activities relating to the packaging or transporting of high-level radioactive waste or spent nuclear fuel.”

To carry out its mandate, the Board strives for a high standard of quality in reviewing the U.S. Department of Energy's (DOE) technical and scientific activities. The Board holds open meetings, routinely schedules time for public comment at its meetings, and actively solicits the opinions of experts in fields allied with topics under review.

The Board also makes every effort to ensure the quality, objectivity, utility, and integrity of information that it disseminates. In developing these guidelines, the Board has followed the requirements set out by the OMB.

Information Disseminated by the Board

The Board was charged by Congress with providing technical and scientific advice to Congress and the Secretary of Energy based on the expert opinion of Board members. In accordance with its congressional mandate, the Board performs an evaluation of the technical and scientific validity of factual information provided by the DOE. The Board does not originate technical and scientific research or data. Consequently, information disseminated by the Board is almost without exception based on Board-member opinion. Like all expert judgments, Board opinions have a subjective element. Thus, they are not easily subjected to the tests of objectivity, reproducibility, and transparency described in the OMB guidelines.

The Board has developed the following proposed guidelines for the information the Board disseminates. The guidelines have three elements: First, to the extent that Board opinions derive directly from specific technical analyses, those analyses are revealed. Second, the Board makes clear the logic and rationale for its expert opinions. Third, the Board makes every effort to ensure that the information on which it bases its opinions is credible.

Technical analyses. The Board includes a discussion of technical analyses that form the basis of its expert opinions in its twice-yearly reports to Congress and the Secretary of Energy. In addition, such technical analyses are referenced in Board correspondence with the DOE and in correspondence with and testimony before Congress.

Logic and rationale. To make the logic and rationale that support its opinions clear, the Board makes every effort to ensure that its findings and recommendations and the technical analysis on which they are based are understandable, relevant, and widely accessible.

Credible information. To help ensure that its opinions are based on credible information, the Board stays informed on progress in the program by holding meetings several times a year, by being updated on current scientific and technical research, by conducting field observations, and by gathering information from parties to the process and experts in related fields. However, the quality of information derived from external sources cannot be guaranteed by the Board.

From time to time, the Board retains technical experts to provide their opinions on specific technical and scientific issues related to the Board's review of the DOE program. Expert opinion generated or disseminated by these expert consultants is not covered under the guidelines. When the views of expert consultants are disseminated, the Board includes an appropriate disclaimer in the document, for example: “The views in this document are those of the consultant and are not necessarily those of the Board.”

Dissemination of Information

The Board strives for a high degree of transparency in its evaluation of the DOE program. Consequently, the Board ensures that all Board documents are widely disseminated and available to other organizations, to members of Congress, and to members of the public. The Board mails its twice-yearly reports and its meeting notice directly to its extensive mailing list. The Board makes all its reports, correspondence, congressional testimony, meeting transcripts, and other documents available on its Web site and on request. Most of these documents can be downloaded and are accessible to those who use assistive technology for reading online material.

Quality Management Principles

In reviewing information for dissemination, the Board complies with statutory requirements for protecting certain information. The statutory requirements include the Privacy Act of 1974, the Freedom of Information Act, and the computer security provisions of the Paperwork Reduction Act. The Board strives to ensure that the information in Board documents is unbiased, relevant, accurate, and clear by using the following procedures.

The Board reviews documents for adherence to quality standards as part of its internal review process. Board members and Board staff perform multiple reviews of Board reports, Board correspondence, Board congressional testimony, and other documents. All Board documents are reviewed for consistency and clarity. Text is edited to ensure that thoughts and arguments flow logically and are clear, concise, easy to read, and grammatically correct. Tables and charts are edited to ensure that they clearly and accurately illustrate and support points made in the text. Sound statistical and analytical techniques are used in developing Board documents.

Complaint and Review Procedures

Corrections of Information Covered by These Guidelines

Board guidelines include the following procedures for members of the public to seek and obtain appropriate correction of information maintained and disseminated by the NWTRB after October 1, 2002. As required by OMB Guidelines, the NWTRB will report annually to the director of the OMB on the number and disposition of such requests received.

Use a copy of the form provided on the Board's Web site or available from the Board's office. Provide the information requested on the form and submit it to info@nwtrb.gov or to U.S. Nuclear Waste Technical Review Board; Section 515 Compliance; 2300 Clarendon Blvd., Suite 1300; Arlington, VA 22201.

The NWTRB may choose not to respond to requests based on claims deemed frivolous or unlikely to have substantial future effect. A decision on whether and how to correct the information will be made within 90 days of receipt, and the requester will be notified of the decision by mail, telephone, e-mail, or fax.

If the claim is denied, the requester may ask within 30 days of the date of the decision for reconsideration of the Board's decision. Such requests must be made by e-mail (info@nwtrb.gov) or in writing (U.S. Nuclear Waste Technical Review Board; Director of Administration; 2300 Clarendon Blvd., Suite 1300; Arlington, VA 22201). The NWTRB will then reconsider its decision. Reconsiderations will be made by the Director of Administration or delegate. The claimant will be notified of the final decision within six weeks.

Definitions

Quality: An encompassing term comprising utility, objectivity, and integrity, as defined below.

Utility: The usefulness of the information to its intended users.

Objectivity: A focus on ensuring that information is accurate, reliable, and unbiased, and that information products are presented in an accurate, clear, complete, and unbiased manner.

Integrity: The security of information from unauthorized access or revision to ensure that the information is not compromised through corruption or falsification.

Information: Any communication or representation of knowledge, such as facts or data, in any form. This does not include individual Board member or staff opinions, where the agency makes it clear that what is being offered is someone's opinion rather than fact or the Board's view.

Dissemination: Agency-instituted or agency-sponsored distribution of information to the public. Dissemination under these guidelines does not include distributions limited to government employees or agency contractors or grantees; interagency or intraagency use or sharing of government information; and responses to requests for agency records under the Freedom of Information Act, the Privacy Act, the Federal Advisory Committee Act, or other similar law.

Influential: The Board can reasonably determine that dissemination of the information will have or does have a clear and substantial effect on important public policies.

Reproducibility: The information is capable of being substantially reproduced, subject to an acceptable degree of imprecision.

Information not covered by the OMB or Board guidelines includes the following:

• Archival records

• Transcripts of meetings

• Correspondence with an individual

• Press releases

• Reports containing a disclaimer.

Dated: July 12, 2001.
Karyn Severson,
Director, External Affairs, Nuclear Waste Technical Review Board.

[FR Doc. 02-18188 Filed 7-18-02; 8:45 am]

BILLING CODE 6820-AM-M